Proclamation 10642 of September 29, 2023

Child Health Day, 2023

By the President of the United States of America

A Proclamation

To build a future worthy of our children's highest aspirations, we must ensure they have the resources and support they need to thrive. This Child Health Day, we recommit to helping our children live healthy lives so they can reach their highest potential.

Our most fundamental obligation to our children is to keep them safe. The devastating truth is that firearms are the leading cause of death for children in America. That is unacceptable. Kids and parents should not live in fear of everyday places turning into warzones. That is why I signed the most significant gun safety law in nearly 30 years to keep guns out of dangerous hands. I have also taken more meaningful executive action than any President in history to keep communities safe. And I recently established the first-ever White House Office of Gun Violence Prevention to build upon these measures.

My Administration has invested billions of dollars to improve mental health services for young people, including hiring and training more school mental health counselors so young people can get the care they need. I have heard from parents, teachers, nurses, and kids across the country about the mental health crisis among youth in their communities. Tackling the mental health crisis and the many ways it affects our communities is a part of my Unity Agenda—one of the big things we can come together as a society to solve. Our American Rescue Plan made our Nation's biggest-ever investment in mental health and substance use programs—recruiting, training, and supporting more providers at the State and local levels, including in our schools. Our gun safety law also expands the number of Certified Community Behavioral Health Clinics that deliver 24/7 care.

My Administration is also taking steps to make it easier for schools to use Medicaid to deliver mental health care. And we launched 988, the Nation's new Suicide and Crisis Lifeline, so anyone in the midst of a crisis can receive free life-saving, confidential help right away. My Administration is working to fulfill our promise of full mental health parity for all Americans. This includes a new proposed rule that would require insurers to identify gaps in the mental health care they provide and address any differences between the way they cover mental health care and physical health care, as a way to reach any American who may need help. Further, we must do more to make the Internet a safe place for children. I have called on the Congress to limit the personal data that tech companies collect, ban targeted advertising directed at minors, and require social media platforms to put health and safety first, especially for kids. And to protect our children's physical health, my Administration has taken steps to remove thousands of flavored e-cigarettes from the market, which are known to be particularly addictive to children.

No parent or caregiver should have to lie awake at night wondering how they will find the means to care for a child's most basic needs—whether it is paying for a trip to the emergency room or putting a healthy meal on their table. Our Inflation Reduction Act is lowering costs for Americans, saving millions of families $800 a year on health care premiums. My Administration also modernized the Thrifty Food Plan for the first time since 1975, helping millions of families afford a nutritious, practical, cost-effective diet. And we are working toward our goal of expanding free school meals to 9 million more children by 2032—a first major step toward free healthy school meals for all.

In 2021, we slashed child poverty rates by nearly half for all children in this Nation—driven by our expansion of the Child Tax Credit, which helped millions of families afford basic necessities. We reauthorized and reinvested in the Maternal, Infant, and Early Childhood Home Visiting Program, which has been shown to improve maternal and child health and advance child development and readiness to participate in school. We know that investments like these can improve children's health outcomes throughout their lifetimes, which is why I am continuing to fight to restore the expanded Child Tax Credit.

We also recognize that addressing the climate crisis is critical to protecting our children's futures. Parents across the Nation have told me unforgettable stories of environmental injustice—living near factories and seeing the paint on their cars peel off because the air was so corrosive, drinking water contaminated by nitrates and arsenic, and feeling fear when their children play outside in toxic air and rain. The peril these families face opposes everything we stand for as a Nation—and it is a big reason why my Administration has taken on the most ambitious climate and environmental justice agenda in American history.

Through the Bipartisan Infrastructure Law, I am working to replace every single lead pipe in America because everyone should be able to turn on a faucet at home or at school and drink clean and safe water. My Inflation Reduction Act makes the most significant investment in climate ever, which includes investing in air quality sensors near factories so nearby communities can know how safe their air is. And we made a commitment to conserve 30 percent of all our Nation's lands and waters by 2030 so that we can protect our natural wonders for the ages.

Children are the kite strings that keep our national ambitions aloft—they are the dreamers and doers that will one day lead our Nation forward. It is up to all of us to make sure they grow up happy and healthy, they are treated with the dignity and respect they deserve, and their futures are full of endless possibilities. May we continue to care for children's health and, in turn, create a better future for our Nation.

The Congress, by a joint resolution approved May 18, 1928, as amended (36 U.S.C. 105), has called for the designation of the first Monday in October as Child Health Day and has requested that the President issue a proclamation in observance of this day.

NOW, THEREFORE, I, JOSEPH R. BIDEN JR., President of the United States of America, do hereby proclaim Monday, October 2, 2023, as Child Health Day. I call upon families, child health professionals, faith-based and community organizations, and governments to help ensure that America's children stay safe and healthy.

IN WITNESS WHEREOF, I have hereunto set my hand this twenty-ninth day of September, in the year of our Lord two thousand twenty-three, and of the Independence of the United States of America the two hundred and forty-eighth.

[FR Doc. 2023-22243

Filed 10-3-23; 8:45 am]

Billing code 3395-F4-P